NUCLEAR REGULATORY COMMISSION

Circumferential Cracking of Reactor Pressure Vessel Head Penetration Nozzles; Issue

AGENCY: Nuclear Regulatory Commission.

ACTION: Notice of issuance.

SUMMARY: The Nuclear Regulatory Commission (NRC) has issued Bulletin (BL) 2001-01 to all holders of operating licenses for pressurized-water nuclear power reactors, except those who have permanently ceased operations and have certified that fuel has been permanently removed from the reactor vessel. BL 2001-01 addresses the recent discoveries of cracked and leaking reactor pressure vessel head (VHP) nozzles at several pressurized water reactors (PWRs) and the concerns raised about the structural integrity of VHP nozzles throughout the PWR industry. The purpose of the bulletin is to (1) request PWR licensees to provide information related to the structural integrity of the VHP nozzles for their respective facilities, including the extent of VHP nozzle leakage and cracking that has been found to date, the inspections and repairs that have been undertaken to satisfy applicable regulatory requirements, and the basis for concluding that their plans for future inspections will ensure compliance with applicable regulatory requirements, and (2) require PWR licensees to provide to the NRC a written response in accordance with the provisions of 10 CFR 50.54(f). This information request is necessary to permit the assessment of plant-specific compliance with NRC regulations. The information will also be used by the NRC staff to determine the need for and to guide the development of additional regulatory actions to address cracking in VHP nozzles.

DATES: The bulletin was issued on August 3, 2001.

ADDRESSEES: Not applicable.

FOR FURTHER INFORMATION CONTACT: Allen L. Hiser, Jr., at 301-415-1034 or by e-mail to alh@nrc.gov.

SUPPLEMENTARY INFORMATION: Bulletin 2001-01 may be examined and/or copied for a fee at the NRC's Public Document Room, located at One White Flint North, 11555 Rockville Pike (first floor), Rockville, Maryland, and is accessible electronically from the Agencywide Documents Access and Management Systems (ADAMS) Public Electronic Reading Room on the Internet at the NRC web site, http://www.nrc.gov/NRC/ADAMS/index.html. The ADAMS Accession No. for the bulletin is ML012080284.

If you do not have access to ADAMS or if there are problems in accessing documents located in ADAMS, contact the NRC Public Document Room (PDR) Reference staff at 301-415-4737 or 1-800-397-4209, or by e-mail to pdr@nrc.gov.

Dated at Rockville, Maryland, this 3rd day of August 2001.
For the Nuclear Regulatory Commission.
David B. Matthews,
Director, Division of Regulatory Improvement Programs, Office of Nuclear Reactor Regulation.

[FR Doc. 01-19891 Filed 8-7-01; 8:45 am]

BILLING CODE 7590-01-P